DEPARTMENT OF THE INTERIOR

National Park Service

Wrangell-St. Elias National Park Subsistence Resource Commission Meeting

AGENCY: National Park Service, Interior.

ACTION: Announcement of Wrangell-St. Elias National Park Subsistence Resource Commission (SRC) meeting.

SUMMARY: Notice is hereby given in accordance with the Federal Advisory Committee Act that a meeting of the Wrangell-St. Elias National Park Subsistence Resource Commissions will be held at Tazlina, Alaska. The purpose of the meeting will be to continue work on currently authorized and proposed National Park Service subsistence hunting program recommendations including other related subsistence management issues. The meeting will be open to the public. Any person may file with the Commission a written statement concerning the matters to be discussed.

The Subsistence Resource Commission is authorized under Title VIII, Section 808, of the Alaska National Interest Lands Conservation Act, Pub. L. 96-487, and operates in accordance with the provisions of the Federal Advisory Committee Act.

DATES: The meeting dates are:

1. February 19, 2003, 9 a.m. to 5 p.m., Tazlina Community Hall, Tazlina, Alaska.

2. February 20, 2003, 9 a.m. to 5 p.m., Tazlina Community Hall, Tazlina, Alaska.

In accordance with 41 CFR 102-3.150, we may provide less than 15 days notice in the Federal Register to convene the Commission prior to the March 4, 2003, Southcentral Regional Council meeting.

FOR FURTHER INFORMATION CONTACT: Gary Candelaria or Barbara Cellarius, Subsistence, at Wrangell-St. Elias National Park and Preserve, P.O. Box 439, Copper Center, AK 99573, telephone (907) 822-5234.

SUPPLEMENTARY INFORMATION: Notice of this meeting will be published in local newspapers and announced on local radio stations prior to the meeting dates. Locations and dates may need to be changed based on weather or local circumstances.

The agenda for the meeting is as follows:

1. Call to order (SRC Chair).

2. SRC Roll Call and Confirmation of Quorum.

3. SRC Chair and Superintendent's Welcome and Introductions.

4. Review and Adopt Agenda.

5. Review and adopt minutes September 25-26, 2002 meeting.

6. Review Commission Purpose.

7. Status of Membership.

8. Superintendent's Report.

9. Wrangell-St. Elias NP&P Staff Report.

10. Review new proposals to change Wildlife Regulations.

11. Public and Agency Comments.

12. Work Session (comment on issues, develop new recommendations, prepare letters).

13. Set time and place of next SRC meeting.

14. Adjournment.

Draft minutes of the meeting will be available for public inspection approximately six weeks after the meeting from the Superintendent, Wrangell-St. Elias National Park, at the above address.

Robert L. Arnberger,
Regional Director, Alaska.

[FR Doc. 03-2718 Filed 2-4-03; 8:45 am]

BILLING CODE 4310-70-P